DEPARTMENT OF HOUSING AND URBAN DEVELOPMENT

[Docket No. FR-5376-N-48]

Housing Counseling Outcomes Study

AGENCY: Office of the Chief Information Officer, HUD.

ACTION: Notice.

SUMMARY: The proposed information collection requirement described below has been submitted to the Office of Management and Budget (OMB) for review, as required by the Paperwork Reduction Act. The Department is soliciting public comments on the subject proposal.

This request is for the clearance of survey instruments designed to provide statistically accurate information on outcomes realized by clients of HUD-funded housing counseling agencies seeking assistance to either purchase a home (pre-purchase clients) or to resolve or prevent a mortgage delinquency (foreclosure mitigation clients). Fourteen-hundred and thirty counseling clients have already been recruited to voluntarily participate in the study. In granting their informed consent to participate in the study, these counseling clients agreed to be contacted by telephone 12 months following the recipt of counseling to complete a survey about their conseling experience and their current housing situation. The purpose of this survey is to gather information needed to both document the share clients realizing different outcomes following counseling and to analyze how these outcomes vary with the characteristics of clients and the services they receive.

DATES: Comments Due Date: July 8, 2010.

ADDRESSES: Interested persons are invited to submit comments regarding this proposal. Comments should refer to the proposal by name and/or OMB approval Number (2528-Pending) and should be sent to: HUD Desk Officer, Office of Management and Budget, New Executive Office Building, Washington, DC 20503; fax: 202-395-5806.

FOR FURTHER INFORMATION CONTACT: Leroy McKinney Jr., Reports Management Officer, QDAM, Department of Housing and Urban Development, 451 Seventh Street, SW., Washington, DC 20410; e-mail Leroy McKinney Jr. at Leroy.McKinneyJr@hud.gov or telephone (202) 402-5564. This is not a toll-free number. Copies of available documents submitted to OMB may be obtained from Mr. McKinney.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Housing Counseling Outcomes Study.

OMB Approval Number: 2528-Pending.

Form Numbers: None.

Description of the Need for the Information and its Proposed Use:

This request is for the clearance of survey instruments designed to provide statistically accurate information on outcomes realized by clients of HUD-funded housing counseling agencies seeking assistance to either purchase a home (pre-purchase clients) or to resolve or prevent a mortgage delinquency (foreclosure mitigation clients). Fourteen-hundred and thirty counseling clients have already been recruited to voluntarily participate in the study. In granting their informed consent to participate in the study, these counseling clients agreed to be contacted by telephone 12 months following the recipt of counseling to complete a survey about their conseling experience and their current housing situation. The purpose of this survey is to gather information needed to both document the share clients realizing different outcomes following counseling and to analyze how these outcomes vary with the characteristics of clients and the services they receive.

Frequency of Submission: One Time.

| Number of respondents | Annual responses | × | Hours per response | = | Burden hours
Reporting Burden | 978 | 1 |  | 0.5 |  | 489

Total Estimated Burden Hours: 489.

Status: New Collection.

Authority: Section 3507 of the Paperwork Reduction Act of 1995, 44 U.S.C. 35, as amended.

Dated: June 2, 2010.
Leroy McKinney, Jr.,
Departmental Reports Management Officer, Office of the Chief Information Officer.

[FR Doc. 2010-13695 Filed 6-7-10; 8:45 am]

BILLING CODE 4210-67-P